DEPARTMENT OF AGRICULTURE

Forest Service

California Coast Provincial Advisory Committee

AGENCY: Forest Service, USDA.

ACTION: Notice of meeting.

SUMMARY: The California Coast Provincial Advisory Committee (PAC) will meet on May 15 and 16, 2002, in Lake County, California. The purpose of the meeting is to discuss issues relating to implementing the Northwest Forest Plan.

DATES: A business meeting will be held from 10 a.m. to 5 p.m. on May 15, 2002, at the Robinson Rancheria Administrative Building, in Nice, CA. A field tour at the Upper Lake Ranger District of the Mendocino National Forest will be held on May 16, 2002, from 8:30 a.m. until 3 p.m.

ADDRESSES: The May 15 business meeting will be held at the Robinson Rancheria Administrative Building, 1545 East Highway 20, Nice, CA. The May 16 field tour will begin at the Upper Lake Ranger District, 10025 Elk Mountain Road, Upper Lake, CA.

FOR FURTHER INFORMATION CONTACT: Phebe Brown, Committee Coordinator, USDA, Mendocino National Forest, 825 N. Humboldt Avenue, Willows, CA 95988, (530) 934-3316; e-mail pybrown@fs.fed.us.

SUPPLEMENTARY INFORMATION: Agenda items to be covered include: (1) Presentation on Salmon Recovery Plan; (2) Regional Ecosystem Office (REO) update; (3) update and discussion concerning Mendocino and Six Rivers National Forests Roads Analysis Processes; (4) presentation on County Resource Advisory Committees; (5) update on planning for a Province fire ecology/fuels treatment workshop; (6) Aquatic Conservation Subcommittee report; (7) report from fire managers working group; (8) Agency and PAC members current issues discussion; and (9) public comment. The meeting is open to the public. Public input opportunity will be provided and individuals will have the opportunity to address the Committee at that time.

Dated: April 10, 2002.
James Fenwood,
Forest Supervisor.

[FR Doc. 02-10397 Filed 4-26-02; 8:45 am]

BILLING CODE 3410-11-M